DEPARTMENT OF ENERGY

Federal Energy Regulatory Commission

Notice of Application for Amendment of License and Soliciting Comments, Motions To Intervene, and Protests

April 17, 2003.

Take notice that the following application has been filed with the Commission and is available for public inspection:

a. Application Type: Amendment of License to Remove Transmission lines and Related Electrical Equipment from the Project Boundary.

b. Project No: 2197-057.

c. Date Filed: December 10, 2002.

d. Applicant: Alcoa Power Generating Inc.

e. Name of Project: Yadkin.

f. Location: The project is located on the Yadkin River, in Stanley, Montgomery, Davidson, and Rowan Counties, North Carolina.

g. Filed Pursuant to: Federal Power Act, 16 U.S.C. 791a-825r.

h. Applicant Contact: Alcoa Power Generating Inc.(APGI), Yadkin Division, 293 NC 740 Hwy, PO Box 576, Badin, NC 28009-0576, (704) 422-5606.

i. FERC Contact: Any questions on this notice should be addressed to Mrs. Anumzziatta Purchiaroni at (202) 502-6191, or e-mail address: anumzziatta.purchiaroni@ferc.gov.

j. Deadline for filing comments and or motions: May 19, 2003.

k. Description of Request: APGI is proposing to remove: (a) Two single circuit 100-kV transmission lines, (0.3 mile-long each), that run into and out of the Tuckertown Development, (b) a single circuit 100-kV transmission line (15 miles long), that runs from the High Rock Development through the Tuckertown Development, and then continues to the Badin Works in Badin; and (c) related electrical and non-electrical equipment necessary for the operation of these lines. APGI asserts that these transmission facilities function as part of the integrated regional transmission system in the region carrying both Yadkin Project power and non-project power. In addition, APGI proposes to remove from the project certain telephone lines that run with the identified transmission lines, because they have been replaced by the use of fiber optic cable.

l. Locations of the Application: A copy of the application is available for inspection and reproduction at the Commission's Public Reference Room, located at 888 First Street, NE., Room 2A, Washington, DC 20426, or by calling (202) 502-8371. This filing may also be viewed on the Commission's Web site at http://www.ferc.gov using the “FERRIS” link. Enter the docket number excluding the last three digits in the docket number field to access the document. For assistance, contact FERC Online Support at FERCOnlineSupport@ferc.gov or toll-free at (866)208-3676, or for TTY, contact (202)502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Magalie R. Salas,
Secretary.

[FR Doc. 03-9991 Filed 4-22-03; 8:45 am]

BILLING CODE 6717-01-P